DEPARTMENT OF THE INTERIOR

National Park Service

National Register of Historic Places; Notification of Pending Nominations and Related Actions

Nominations for the following properties being considered for listing or related actions in the National Register were received by the National Park Service before January 23, 2010. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 24, 2010 .

J. Paul Loether,
Chief, National Register of Historic Places/National, Historic Landmarks Program.

CALIFORNIA

Los Angeles County

Garment Capitol Building, 217 E. 8th St., Los Angeles, 10000053

IOWA

Lucas County

Chariton Cemetery Historic District, 929 S. Main St., Chariton, 10000054

Story County

Roosevelt School, 921 9th St., Ames, 10000055

MAINE

York County

South Berwick Village Historic District, Portions of Main, Portland, Highland and Academy, South Berwick, 10000058

MASSACHUSETTS

Bristol County

Ingraham, Robert C., School, 80 Rivet St., New Bedford, 10000056

Middlesex County

Groton High School, 145 Main St., Groton, 10000057

NEW YORK

Putnam County

West Point Foundry Archeological Site, Address Restricted, Cold Spring, 10000059

[FR Doc. 2010-2797 Filed 2-8-10; 8:45 am]

BILLING CODE P